DEPARTMENT OF AGRICULTURE

Food Safety and Inspection Service

[Docket Number FSIS-2022-0009]

Siluriformes Fish Salmonella Sampling

AGENCY: Food Safety and Inspection Service, USDA.

ACTION: Notice.

SUMMMARY: The Food Safety and Inspection Service (FSIS) is announcing that, starting July 13, 2022, it will suspend its current FSIS Salmonella sampling program for Siluriformes fish and fish products based on consumer cooking practices, lack of recent outbreaks attributed to Siluriformes fish, and low percent positives detected.

DATES: Submit comments on or before July 13, 2022. FSIS will suspend Salmonella sampling in domestic and imported Siluriformes fish and fish products on July 13, 2022.

ADDRESSES: FSIS invites interested persons to submit comments on this notice. Comments may be submitted by one of the following methods:

• Federal eRulemaking Portal: This website provides commenters the ability to type short comments directly into the comment field on the web page or to attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2022-0009. Comments received in response to this docket will be made available for public inspection and posted without change, including any personal information, to https://www.regulations.gov.

Docket: For access to background documents or comments received, call (202) 720-5627 to schedule a time to visit the FSIS Docket Room at 1400 Independence Avenue SW, Washington, DC 20250-3700.

FOR FURTHER INFORMATION CONTACT: Rachel Edelstein, Assistant Administrator, Office of Policy and Program Development by telephone at (202) 205-0495.

SUPPLEMENTARY INFORMATION:

Background

On December 2, 2015, FSIS published the final rule, Mandatory Inspection of Fish of the Order Siluriformes and Products Derived from Such Fish (https://www.fsis.usda.gov/sites/default/files/media_file/2021-02/2008-0031F.pdf), that established a mandatory inspection program for Siluriformes fish and fish products. The final rule codified in regulations the provisions of the 2008 and 2014 Farm Bills, which amended the Federal Meat Inspection Act, making Siluriformes fish an amenable species under FSIS jurisdiction and inspection.

As discussed in the final rule (80 FR 75590, 75593), FSIS considered the public health implications presented by Siluriformes fish in developing the regulations. FSIS also published the “Assessment of the Potential Change in Human Health Risk associated with Applying Inspection to Fish of the order Siluriformes” (https://www.fsis.usda.gov/sites/default/files/media_file/2021-02/Silurifomes-RA.pdf) that assessed the food safety risk associated with consuming Siluriformes fish in the United States. The purpose of the risk assessment was to provide predictions of the public health benefits (e.g., reduction in foodborne illnesses) that might accompany the implementation of a mandatory inspection system. The risk assessment identified Salmonella as a hazard of primary concern because: (1) It is the foodborne pathogen associated with Siluriformes fish (McCoy et. al., Journal of Food Protection 74(3):500-16, 2011); (2) there were more available data for assessing the risk of human illnesses associated with Salmonella and assessing the effectiveness of an FSIS regulatory strategy for this hazard than other potential pathogens; (3) its occurrence in domestic processing facilities and retail catfish is documented; (4) its presence in Siluriformes fish imported to the United States is documented; and (5) Centers for Disease Control and Prevention identifies catfish as the vehicle associated with a 1991 outbreak of Salmonella Hadar.

In the final rule (80 FR 75590, 75607), FSIS announced that it would conduct sampling and testing of Salmonella in Siluriformes fish and fish products to determine the national baseline prevalence and levels of Salmonella on raw Siluriformes fish.

Current Salmonella Sampling Program, Results, and Conclusions

FSIS began testing domestic Siluriformes fish and fish products for Salmonella in May 2016 using the procedures outlined in FSIS Directive 14,010.1, Speciation Residue and Salmonella Testing of Fish of the Order Siluriformes from Domestic Establishments (https://www.fsis.usda.gov/policy/fsis-directives/14010.1) and began testing imported Siluriformes fish and fish products, using the procedures outlined in FSIS Directive 14,100.1, Speciation, Residue, and Salmonella Testing of Fish of the Order Siluriformes at Official Import Inspection Establishments (https://www.fsis.usda.gov/policy/fsis-directives/14100.1).

From May 2016 through the end of Fiscal Year 2020, FSIS collected and analyzed 3,970 samples of domestic and imported Siluriformes fish and fish products for Salmonella. FSIS published a report, Data Summary of Siluriformes Fish Testing: A Five-Year Review, FY 2016-2020, that discusses the results of the data. The report can be found at: https://www.fsis.usda.gov/sites/default/files/media_file/2022-03/SiluriformesFishDataSummaryReport_03292022.pdf.

As discussed in the report and shown in Table 1 (below), of the 3,970 samples of domestic and imported products tested, 80 samples tested positive for Salmonella. Domestic Siluriformes fish were an average of 3.53 percent positive for Salmonella, imported Siluriformes fish were an average of 0.32 percent positive for Salmonella.¹

¹ The difference in the percent positive between imported and domestic may be attributed to imported Siluriformes fish typically being frozen, whereas domestic Siluriformes fish are typically fresh.

While Salmonella is present on Siluriformes fish, there is limited data to support Siluriformes fish attribution to any Salmonella illnesses or outbreaks, except for the 1991 outbreak identified in the risk assessment. Most Siluriformes fish are consumed fully cooked, which could explain the limited number of illnesses and outbreaks associated with this product. Based on consumer cooking practices, lack of recent outbreaks attributed to Siluriformes fish, and low percent positives detected, FSIS has concluded that Salmonella does not pose a significant health hazard in Siluriformes fish. Given that Salmonella does not pose a significant health hazard in Siluriformes fish, FSIS intends to suspend its current Salmonella sampling in domestic and imported Siluriformes fish. FSIS will, however, continue to test Siluriformes fish for residues as part of our National Residue Program.

Additional Public Notification

Public awareness of all segments of rulemaking and policy development is important. Consequently, FSIS will announce this Federal Register publication on-line through the FSIS website located at: https://www.fsis.usda.gov/policy/federal-register-rulemaking/federal-register-notices.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS website. Through the website, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992. Submit your completed form or letter to USDA by: (1) mail: USDA, Office of the Assistant Secretary for Civil Rights, 1400 Independence Avenue SW, Washington, DC 20250-9410; (2) fax: (202) 690-7442; or (3) email: program.intake@usda.gov.

USDA is an equal opportunity provider, employer, and lender.

Paul Kiecker,
Administrator.

[FR Doc. 2022-12663 Filed 6-10-22; 8:45 am]

BILLING CODE 3410-DM-P